SMALL BUSINESS ADMINISTRATION

National Small Business Development Center Advisory Board; Public Meeting

Pursuant to the Federal Advisory Committee Act, Appendix 2 of title 5, United States Code Public Law 92-463, notice is hereby given that the U.S. Small Business Administration, National Small Business Development Center Advisory Board will host a public meeting via conference call to discuss such matters that may be presented by members, and the staff of the U.S. Small Business Administration or interested others. The conference call will take place at the U.S. Small Business Administration on Tuesday, June 19, 2007 at 1 p.m. Eastern Standard Time.

The purpose of the meeting is to discuss the upcoming Board Site Visit to the Ohio Small Business Development Center network on July 8-11, 2007; and the draft white paper regarding Small Business Development Center program management. Anyone wishing to attend the board conference call must contact Erika Fischer, Senior Program Analyst, U.S. Small Business Administration, Office of Small Business Development Centers, 409 3rd Street, SW., Washington, DC 20416, telephone (202) 205-7045 or fax (202) 481-0681.

Matthew Teague,
Committee Management Officer.

[FR Doc. E7-10197 Filed 5-25-07; 8:45 am]

BILLING CODE 8025-01-P